DEPARTMENT OF COMMERCE

International Trade Administration

[A-533-810]

Stainless Steel Bar from India: Partial Rescission of Antidumping Duty Administrative Review

AGENCY: Import Administration, International Trade Administration, Department of Commerce.

EFFECTIVE DATE: May 11, 2010.

FOR FURTHER INFORMATION CONTACT: Seth Isenberg or Brandon Farlander, AD/CVD Operations, Office 1, Import Administration, U.S. Department of Commerce, 14th Street and Constitution Avenue, NW, Washington, DC 20230; telephone (202) 482-0588 and (202) 482-0182, respectively.

SUPPLEMENTARY INFORMATION: On February 1, 2010, the Department issued a notice of opportunity to request an administrative review of this order for the period of review February 1, 2009, through January 31, 2010. See Antidumping or Countervailing Duty Order, Finding, or Suspended Investigation; Opportunity to Request Administrative Review, 75 FR 5037 (February 1, 2010). On February 24, 2010, Venus Wire Industries Pvt. Ltd. requested an administrative review of its entries that were subject to the antidumping duty order for this period. On February 26, 2010, the Department also received a request from domestic interested parties Carpenter Technology Corp.; Crucible Specialty Metals, a division of Crucible Materials Corp.; Electralloy Co., a G.O. Carlson, Inc. company; and Valbruna Slater Stainless, Inc. (collectively, “Petitioners”), for a review of Venus Wire Industries Pvt. Ltd., Facor Steels Ltd./Ferro Alloys Corporation, Ltd. (“Facor”), Mukand, Ltd. (“Mukand”), India Steel Works, Limited (“India Steel”), and their respective affiliates.

On March 30, 2010, the Department published the notice of initiation of this antidumping duty administrative review, covering Venus Wire Industries Pvt. Ltd/Precision Metals/Sieves Manufacturers (India) Private Limited, Facor, Mukand, and India Steel. See Initiation of Antidumping and Countervailing Duty Administrative Reviews and Request for Revocation in Part, 75 FR 15679 (March 30, 2010).

On April 7, 2010, Petitioners withdrew their request for a review of India Steel.

Partial Rescission of Review

Pursuant to 19 CFR 351.213(d)(1), the Secretary will rescind an administrative review, in whole or in part, if the party who requested the review withdraws the request within 90 days of the date of publication of the notice of initiation of the requested review. Because Petitioners withdrew their request for review of India Steel within the 90-day period and no other party requested a review of India Steel's entries, in accordance with 19 CFR 351.213(d)(1), we are rescinding this review with respect to India Steel.

The Department intends to issue appropriate assessment instructions directly to the U.S. Customs and Border Protection (“CBP”) 15 days after the publication of this notice. The Department will direct CBP to assess antidumping duties at the cash deposit rate in effect on the date of entry for entries of subject merchandise produced and/or exported by India Steel, during the period February 1, 2009, through January 31, 2010.

This notice is published in accordance with section 777(i)(1) of the Tariff Act of 1930, as amended, and 19 CFR 351.213(d)(4).

Dated: May 4, 2010.
John M. Andersen,
Acting Deputy Assistant Secretary for Antidumping and Countervailing Duty Operations.

[FR Doc. 2010-11168 Filed 5-10-10; 8:45 am]

BILLING CODE 3510-DS-S